DEPARTMENT OF HEALTH AND HUMAN SERVICES

Statement of Organization, Functions, and Delegations of Authority

Part A, Office of the Secretary, Statement of Organization, Function and Delegations of Authority for the Department of Health and Human Services (HHS) is being amended at Chapter AC, “Office of the Assistant Secretary for Health (OASH), as last amended at 75 FR 53304-53305, dated August 31, 2010. This amendment reflects the realignment of personnel oversight, administration and management functions for the Office of Adolescent Health in the OASH. Specifically, this notice establishes the Division of Research and Evaluation, the Division of Strategic Communications, and the Division of Program Operations within the Office of Adolescent Health. The changes are as follows:

I. Under Part A, Chapter AC, under Office of the Assistant Secretary for Health, make the following changes:

A. Under Section ACR.20, Organization, “M. Office of Adolescent Health (ACR)” replace the entire section with:

The Office of Adolescent Health is headed by a Director who reports to the Assistant Secretary for Health.

B. Under Section ACR. 20, Functions, “M. Office of Adolescent Health (ACR)” replace the entire section with:

1. Office of Adolescent Health (ACR). The Office of Adolescent Health (OAH), headed by the Director of the Office of Adolescent Health, is responsible for implementing the provisions assigned to it under Section 1708 of the Public Health Service Act (42 U.S.C. 300u-7). The Office, by providing Department-wide leadership working with PHS agencies and other HHS Operating Divisions and Staff Divisions and the private sector, establishes, coordinates and advocates policies, programs and activities for the improvement of adolescent health. OAH supports grant programs, evaluation and research studies, services, prevention and health promotion activities, training, education, partnership engagement, and information dissemination activities. The Office: (1) Oversees operations and administrative management, personnel management, and budget formulation and execution for programs managed within OAH; (2) coordinates legislative and policy activities related to adolescent health and OAH programs; (3) coordinates correspondence control and executive secretariat functions; (4) serves as a focal point within HHS to coordinate the continuing implementation of health objectives for adolescents, assures liaison occurs with relevant HHS agencies and offices, and facilitates access to services for adolescents; (5) negotiates and awards grants and enters into cooperative agreements and contracts with public and nonprofit entities; (6) enters into interagency agreements with other PHS/Federal organizations in support of adolescent health; (7) ensures the appropriate exercise of delegated authorities and responsibilities; (8) develops a broad range of health information and health promotion materials; (9) supports the planning and conduct of research and evaluation studies; (10) designs, manages and monitors evaluation studies, and information collection review and approval processes; (11) assesses the focus and impact of ongoing programs and activities, and prepares evaluation studies and reports; (12) disseminates information about program activities and research evaluation studies, including in peer reviewed publications; (13) oversees the implementation and administration of competitive grants and cooperative agreements, monitors grantee activities, and prepares analytical reports on program trends; (14) provides training and technical assistance for grant programs and professionals working with adolescents, manages capacity building needs for grant programs, and assesses performance of grantee operations; (15) supports the replication and use of evidence-based approaches and fosters innovative strategies in programs serving adolescents; (16) manages the development of grant funding announcements and contract scopes of work and the review and award of program grants; (17) manages information, education and awareness activities, and media and press relations; (18) develops and coordinates strategic plans and special initiatives; (19) oversees public health information and promotes OAH programs and partnerships; (20) manages exhibits and develops visual and other graphic and social media materials regarding adolescent health, and ensures compliance with 508 requirements; (21) manages adolescent health information, including the OAH Web site and social media, consistent with the policies of the HHS Assistant Secretary for Public Affairs; (22) coordinates, develops, researches, and prepares briefing materials on issues of adolescent health.

II. Delegations of Authority. Directives or orders made by the Secretary, Assistant Secretary for Health, or Director, Office of Adolescent Health, all delegations and re-delegations of authority made to officials and employees of affected organizational components will continue in them or their successors pending further re-delegation, provided they are consistent with this reorganization.

III. Funds, Personnel, and Equipment. Transfer of organizations and functions affected by this reorganization shall be accompanied by direct and support funds, positions, personnel, records, equipment, supplies, and other resources.

Dated: January 5, 2017.
Sylvia M. Burwell,
Secretary.

[FR Doc. 2017-00312 Filed 1-9-17; 8:45 am]

BILLING CODE 4150-28-P